DEPARTMENT OF HEALTH AND HUMAN SERVICES

Administration for Children and Families

Expedited OMB Review and Public Comment; Proposed Information Collection Activity; Services Provided to Unaccompanied Alien Children

AGENCY: Office of Refugee Resettlement, Administration for Children and Families, HHS.

ACTION: Request for public comment.

SUMMARY: The Office of Refugee Resettlement (ORR), Administration for Children and Families (ACF), U.S. Department of Health and Human Services (HHS), is requesting expedited review of an information collection request from the Office of Management and Budget (OMB) and inviting public comments on the proposed collection. The request consists of several forms that allow the Unaccompanied Alien Children (UAC) Program to provide services to UAC as required by statute and ORR policy.

DATES: Comments due within 60 days of publication. In compliance with the requirements of Section 3506(c)(2)(A) of the Paperwork Reduction Act of 1995, ACF is soliciting public comment on the specific aspects of the information collection described in this notice.

ADDRESSES: Copies of the proposed collection of information can be obtained and comments may be forwarded by emailing infocollection@acf.hhs.gov. Alternatively, copies can also be obtained by writing to the Administration for Children and Families, Office of Planning, Research, and Evaluation (OPRE), 330 C Street SW, Washington, DC 20201, Attn: ACF Reports Clearance Officer. All requests, emailed or written, should be identified by the title of the information collection.

SUPPLEMENTARY INFORMATION: Description: ACF is requesting that OMB grant a 180-day approval for this request under procedures for expedited processing. Any edits resulting from public comment will be incorporated into the submission under normal procedures.

The components of this information request include:

1. Sponsor Assessment (Form S-5): This instrument is used by case managers to document their assessment of the suitability of a potential sponsor to provide for the safety and well-being of a UAC.

2. Home Study Report (Form S-6): This instrument is used by home study providers to document their assessment of a potential sponsor after performing a home site visit.

3. New Sponsor (Form S-7): This instrument is used by care providers to assign a potential sponsor to a UAC in the ORR database and track certain information related to the potential sponsor for safety and suitability assessment purposes. This form is currently approved under OMB Number 0970-0498.

4. Initial Intakes Assessment (Form S-8): This instrument is used by care providers to screen UAC for trafficking or other safety concerns, special needs, danger to self and others, medical conditions, and mental health concerns. This form is currently approved under OMB Number 0970-0498.

5. Assessment for Risk (Form S-9): This instrument is an assessment administered by care providers to reduce the risk that a child or youth is sexually abused or abuses someone else while in ORR custody.

6. UAC Assessment (Form S-11): This instrument is an assessment used by care providers to document information about the UAC that is used to inform provision of services (e.g., case management, legal, education, medical, mental health, home studies), screen for trafficking or other safety concerns, and identify special needs. This form is currently approved under OMB Number 0970-0498.

7. UAC Case Review (Form S-12): This instrument is used by care providers to document new information obtained after completion of the UAC Assessment. This form is currently approved under OMB Number 0970-0498.

8. Individual Service Plan (Form S-13): This instrument is used by care providers to document all services provided to UAC. This form is currently approved under OMB Number 0970-0498.

9. UAC Long Term Foster Care Travel Request (Form S-14): This instrument is used by long term foster care providers to request ORR approval for a UAC to travel with their foster family outside of the local community. This form is currently approved under OMB Number 0970-0498.

10. Child Advocate Recommendation and Appointment (Form S-15): This instrument is used by care providers and other stakeholders to recommend appointment of a child advocate for a UAC. The child advocate contractor then enters whether a child advocate is available and ORR approves the appointment. This form is currently approved under OMB Number 0970-0498.

11. Summary Notes: Thirty Day Restrictive Placement Case Review (Form S-16): This instrument is used by care providers to document their 30-day review for UAC placed in a restrictive setting.

12. UAC Case Status: This instrument is used by care providers to monitor the status of high-level milestones in a UAC's case.

Respondents: ORR grantee and contractor staff, UAC, sponsors, and child advocates.

Annual Burden Estimates
Instrument | Annual total number of respondents | Annual total number of responses per respondent | Average burden minutes per response | Annual total burden hours
Sponsor Assessment (Form S-5) | 206 | 327 | 60 | 67,362
Home Study Report (Form S-6) | 11 | 364 | 45 | 3,003
New Sponsor (Form S-7) | 206 | 327 | 20 | 22,454
Initial Intakes Assessment (Form S-8) | 206 | 363 | 15 | 18,695
Assessment for Risk (Form S-9) | 206 | 794 | 30 | 81,782
UAC Assessment (Form S-11) | 206 | 369 | 45 | 57,011
UAC Case Review (Form S-12) | 206 | 764 | 30 | 78,692
Individual Service Plan (Form S-13) | 206 | 985 | 15 | 50,728
UAC Long Term Foster Care Travel Request (Form S-14) | 30 | 9 | 15 | 68
Child Advocate Recommendation and Appointment (Form S-15) | 206 | 5 | 15 | 258
Summary Notes: Thirty Day Restrictive Placement Case Review (Form S-16) | 15 | 68 | 30 | 510
UAC Case Status | 206 | 354 | 3 | 3,646
Estimated Annual Burden Total: |  |  |  | 384,207

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology.

Authority: 6 U.S.C. 279; 8 U.S.C. 1232; Flores v. Reno Settlement Agreement, No. CV85-4544-RJK (C.D. Cal. 1996).

John M. Sweet Jr.,
ACF/OPRE Certifying Officer.

[FR Doc. 2020-16050 Filed 7-23-20; 8:45 am]

BILLING CODE 4184-45-P